NATIONAL SCIENCE FOUNDATION

U.S. Global Change Research Program Strategic Plan Public Comment Period

AGENCY: National Science Foundation.

ACTION: Announcement of strategic plan outline and public comment period.

SUMMARY: This Notice advises the public that the public comment period for the U.S. Global Change Research Program (USGCRP) Strategic Plan is now open. Every ten years, in accordance with the Global Change Research Act of 1990 (Sec 104, Pub. L. 101-606), the USGCRP must produce a 10 year National Global Change Research Plan (i.e. a Strategic Plan for the USGCRP). The public comment period invites the public to provide comments and feedback on the U.S. Global Change Research Program Strategic Plan.

DATES: Public Comments are due by November 29, 2011.

ADDRESSES: To download the draft Strategic Plan, visit: http://strategicplancomments.globalchange.gov. Respondents are encouraged to submit comments through the same Web site. Comments may also be sent to strategicplancomments@usgcrp.gov. Detailed instructions for electronic mail submissions are also available at http://strategicplancomments.globalchange.gov/email_guidelines.

FOR FURTHER INFORMATION CONTACT: Any questions about the content of this request should be sent to Dr. Julie Morris, Technical Coordinator for the Strategic Plan, U.S. Global Change Research Program Office, 1717 Pennsylvania Ave., NW., Suite 250, Washington, DC 20006, Telephone (202) 223-6262, Fax (202) 223-3065, e-mail strategicplancomments@usgcrp.gov.

SUPPLEMENTARY INFORMATION: Strategic Plan Goals: The following goals frame the U.S. Global Change Research Program Strategic Plan:

Goal 1: Advance Science: Advance scientific knowledge of the integrated natural and human components of the Earth system.

Goal 2: Inform Decisions: Provide the scientific basis to inform and enable timely decisions on adaptation and mitigation.

Goal 3: Sustained Assessments: Build sustained assessment capacity that improves the nation's ability to understand, anticipate, and respond to global change impacts and vulnerabilities.

Goal 4: Communicate and Educate: Advance communications and education to broaden public understanding of global change, and empower the workforce of the future.

Dated: September 27, 2011.
Suzanne Plimpton,
Records Clearance Officer, National Science Foundation.

[FR Doc. 2011-25211 Filed 9-29-11; 8:45 am]

BILLING CODE 7555-01-P